DEPARTMENT OF ENERGY

Federal Energy Regulatory Commission

[Project No. 13702-002]

FFP Missouri 2, LLC; Notice Soliciting Scoping Comments

Take notice that the following hydroelectric application has been filed with the Commission and is available for public inspection.

a. Type of Applications: Original Major License—Existing Dam.

b. Project No.: 13702-002.

c. Date filed: November 13, 2013.

d. Applicant: FFP Missouri 2, LLC.

e. Name of Project: Grenada Lake Hydroelectric Project.

f. Location: The proposed project would be located at the U.S. Army Corps of Engineers' (Corps) existing Grenada Lake dam, on the Yalobusha River, near the Town of Grenada, Grenada County, Mississippi. The proposed project would occupy approximately 35.5 acres of federal lands administered by the Corps.

g. Filed Pursuant to: Federal Power Act, 16 U.S.C. 791(a)-825(r).

h. Applicant Contact: Mr. Thomas M. Feldman, Rye Development, LLC, P.O. Box 390691, Cambridge, MA 02139, (617) 433-8140.

i. FERC Contact: Jeanne Edwards at (202) 502-6181, jeanne.edwards@ferc.gov; or Patti Leppert at (202) 502-6034, patricia.leppert@ferc.gov.

j. Deadline for filing scoping comments: 30 days from the issuance date of this notice.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13702-002.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The proposed Grenada Lake Project would utilize the following existing Corps' Grenada Lake dam facilities: (1) A 13,900-foot-long, 80-foot-high earth fill embankment dam; (2) a reservoir; and (3) outlet works consisting of a concrete intake tower; three gated inlets that combine to a 377.5-foot-long, 17-foot-diameter round concrete outlet tunnel; and a stilling basin.

The proposed Grenada Lake Project would consist of the following new facilities: (1) A 327.5-foot-long, 16-foot-diameter steel liner installed within the existing concrete outlet tunnel; (2) a 50-foot-long, 20-foot-high square steel-lined, reinforced concrete gated bifurcation at the end of the existing concrete outlet tunnel to divide the flows between the existing stilling basin and new powerhouse; (3) a 260-foot-long, 14-foot-diameter steel penstock from the bifurcation structure to the forebay; (4) an 86-foot-long, 78-foot-wide, 50-foot-high forebay; (5) a 120-foot-long, 60-foot-wide, 80-foot-high concrete powerhouse containing two vertical Kaplan generating units with a total installed capacity of 9.0 megawatts; (6) a 150-foot-long, 70 foot-wide tailrace channel; (7) a substation; (8) a 2,650-foot-long transmission line consisting of a 670-foot-long, 4.160-kilovolt (kV) buried cable from the powerhouse to the substation, and a 1,980-foot-long, 12.5-kV overhead line from the substation to an existing utility-owned distribution line; and (9) appurtenant facilities. The average annual generation would be 31,000 megawatt-hours.

m. A copy of the application is available for electronic review at the Commission in the Public Reference Room, or may be viewed on the Commission's Web site at http://www.ferc.gov, using the “eLibrary” link. Enter the docket number, excluding the last three digits in the docket number field, to access the document. For assistance, contact FERC Online Support. A copy is available for inspection and reproduction at the address in item h above.

You may register online at http://www.ferc.gov/docs-filing/esubscription.asp to be notified via email of new filings and issuances related to this or other pending projects. For assistance, contact FERC Online Support.

n. Scoping process.

The Commission staff intends to prepare an environmental assessment (EA) for the project, in accordance with the National Environmental Policy Act. The EA will consider both site-specific and cumulative environmental impacts and reasonable alternatives to the proposed action.

The Commission staff does not propose to conduct any on-site scoping meetings at this time. Instead, staff is soliciting comments, recommendations, and information on Scoping Document (SD1) issued on October 27, 2014.

Copies of the SD1 outlining the subject areas to be addressed in the EA were distributed to the parties on the Commission's mailing list. Copies of the SD1 may be viewed on the Web at http://www.ferc.gov, using the “eLibrary” link. Enter the docket number, excluding the last three digits in the docket number field, to access the document. For assistance, call 1-866-208-3676, or for TTY, (202) 502-8659.

Dated: October 27, 2014.
Kimberly D. Bose,
Secretary.

[FR Doc. 2014-25990 Filed 10-31-14; 8:45 am]

BILLING CODE 6717-01-P